DEPARTMENT OF THE INTERIOR

Bureau of Land Management

[WY-020-1210-00]

Notice of Availability of the Decision Record and Plan Amendment Addressing Management for Bureau of Reclamation Withdrawn Lands Restored to Bureau of Land Management Jurisdiction in the Cody Field Office Planning Area, and Notice of Off-road Vehicle (ORV) Designations

AGENCY: Bureau of Land Management, Interior.

ACTION: Notice of Availability.

SUMMARY: The Bureau of Land Management (BLM), Cody Field Office, announces the availability of a decision record and plan amendment addressing the management of approximately 149,783.31 acres of Federal lands in Park and Big Horn counties of Wyoming. The lands were formerly withdrawn for use by the Bureau of Reclamation and have been restored to BLM jurisdiction in the Cody Field Office Planning Area. The BLM is also providing Notice of ORV Designations affecting these Federal lands.

The decision record includes a general management plan which amends the 1990 Cody Resource Management Plan (RMP). The general management plan is adopted as the management prescription for the formerly withdrawn Federal lands which have been restored to BLM jurisdiction. (The decision record describes these as restored lands). The process used in developing the plan amendment involved the publication of an Environmental Assessment (EA) (WY-020-EA9-126) in September 1999 to document the review of existing planning decisions in the 1990 Cody RMP. The purpose of that review was to determine (1) Which of the decisions would apply to the restored lands; (2) whether any decisions would need to be deferred because further analysis was needed before RMP decisions could be applied or made for any of the restored lands; and (3) whether it would be necessary to pursue new withdrawals to protect specific resources on any of the restored lands. By virtue of the former Bureau of Reclamation withdrawals, the lands have remained closed to surface entry and (or) mining, prohibiting activities such as desert land entry, the transfer of public lands through sale or exchange, and the staking and development of mining claims for locatable minerals. In addition, a moratorium on leasing Federal minerals on the restored lands was enacted by the Wyoming BLM State Director, pending completion of the planning review and the establishment of multiple-use management decisions for the restored lands.

The planning review determined that there was sufficient National Environmental Policy Act analysis, as documented in the 1990 Environmental Impact Statement for the Cody RMP and the September 1999 EA, to adopt existing Cody RMP decisions for the restored lands. The review further established that, generally, the lands will be opened to surface entry and (or) mining through the publication of “opening orders” in the Federal Register, but that new closures will be pursued on about 651.83 acres to provide for expansion of the Park County Landfill and to protect public safety, scenic resources, and recreational opportunities. With the publication of the decision record and RMP amendment, the moratorium on leasing Federal minerals on the restored lands has been lifted.

The decision record also puts applicable restored lands in the Rivers and Historic Trails Special Recreation Management Areas (SRMAs). Public lands within these SRMAs will be managed intensively for recreational use. The remaining restored lands are included within the Cody Planning Area extensive recreation management area. ORV Designations have been adopted, as well, and are described under SUPPLEMENTARY INFORMATION in this notice.

FOR FURTHER INFORMATION CONTACT: Tom Hare, Assistant Field Manager, Bureau of Land Management, Cody Field Office, P.O. Box 518, Cody, Wyoming 82414-0518, or call (307) 587-2216.

SUPPLEMENTARY INFORMATION: EA WY-020-EA9-126 was available for a formal 30-day review and protest period during September and October 1999. For 60 days ending on November 8, 1999, the public also had an opportunity to comment on potential Areas of Critical Environmental Concern (ACEC). The State of Wyoming participated in a 60-day Governor's consistency review during the same period. Six comment letters addressing 33 concerns were received and were carefully considered in developing the decision record. There were no protests received, nor any comments, on potential ACEC. Comments received on the EA resulted in a number of changes, additions, and clarifications reflected in the decision record and plan amendment.

The plan amendment includes the following ORV Designations: Vehicle use on the restored lands is limited to designated roads and trails in the following areas: (1) Essential and recovery habitat for threatened or endangered species, (2) areas with fragile soils or with Class I or II visual resource management ratings, and (3) areas containing significant cultural or paleontological resources. In the remainder of the planning area, ORV use on BLM-administered public land is limited to existing roads and trails. “Existing” roads and trails are roads and trails in existence as of the date the decision record was signed (March 3, 2000) and any BLM-authorized roads and trails constructed after that date. Until activity planning specifically addresses the use of over-the-snow vehicles, they will be subject to the same requirements and limitations as all other vehicles.

Parties who are interested in, and who wish to be involved in, future activity planning and implementation of management actions that may involve, or affect, the resource values addressed in the Cody RMP (including the RMP amendment for the restored lands) are requested to identify themselves. Please contact the Cody Field Office and request to be placed on a future contact list for activity planning and implementation activities concerning the Cody RMP.

Dated: June 5, 2000.
Alan R. Pierson,
State Director.

[FR Doc. 00-14786 Filed 6-9-00; 8:45 am]

BILLING CODE 4310-22-P